DEPARTMENT OF TRANSPORTATION

Federal Aviation Administration

Notice of Availability of the Southern California Metroplex Final Environmental Assessment and Finding of No Significant Impact/Record of Decision

AGENCY: Federal Aviation Administration.

ACTION: Notice of availability of Final Environmental Assessment and Finding of No Significant Impact/Record of Decision.

SUMMARY: The Federal Aviation Administration (FAA) is issuing this notice to advise the public that it has published a Final Environmental Assessment and Finding of No Significant Impact/Record of Decision for the Southern California Metroplex project.

FOR FURTHER INFORMATION CONTACT: Ryan Weller, Environmental Specialist, Western Service Center-Operations Support Group, 1601 Lind Ave. SW., Renton, WA 98057, email address: 9-ANM-SoCalOAPM@faa.gov.

SUPPLEMENTARY INFORMATION: The FAA has prepared a Final Environmental Assessment (EA) to assess the potential environmental impacts of the SoCal Metroplex project in compliance with the National Environmental Policy Act of 1969, 42 U.S.C. 4321 et seq. This notice announces that based on the information and analysis contained in the EA, the FAA is issuing a Finding of No Significant Impact and Record of Decision (FONSI/ROD) for the project. The EA and FONSI/ROD document the FAA's determination that the project, as proposed, would not significantly affect the quality of the human environment and that an Environmental Impact Statement (EIS) is therefore not necessary. The FONSI/ROD documents the FAA's decision to proceed with the preferred alternative detailed in the EA. The SoCal Metroplex project will improve the efficiency of the national airspace system in the Southern California area by optimizing aircraft arrival and departure procedures at 21 Southern California airports.

Availability: The EA and FONSI/ROD are available for public review at: (1) Online at: http://www.metroplexenvironmental.com/socal_metroplex/socal_introduction.html.

(2) Hard-copies are available at these libraries:

—Los Angeles Central Library, 630 W. 5th Street, Los Angeles, CA 90071

—Santa Monica Public Library, 601 Santa Monica Boulevard, Santa Monica, CA 90401

—Anaheim Public Library, 500 W. Broadway, Anaheim, CA 92805

—Riverside Public Library, 3581 Mission Inn Avenue, Riverside, CA 92501

—Point Loma/Hervey Library, 3701 Voltaire St., San Diego, CA 92107

—San Diego Central Library, 330 Park Boulevard, San Diego, CA 92101

—E.P. Foster Library, 651 E. Main Street, Ventura, CA 93001

(3) Electronic versions of the EA and FONSI/ROD are available at libraries in the General Study Area. A complete list of libraries with electronic copies of the EA and FONSI/ROD is available online: http://www.metroplexenvironmental.com/socal_metroplex/socal_introduction.html.

Issued in Washington, DC on August 31, 2016.
Gary Norek,
Director, Airspace Services, AJV-1.

[FR Doc. 2016-21413 Filed 9-2-16; 8:45 am]

BILLING CODE 4910-13-P